DEPARTMENT OF TRANSPORTATION

Federal Aviation Administration

14 CFR Part 39

[Docket No. FAA-2016-9382; Directorate Identifier 2016-CE-032-AD]

RIN 2120-AA64

Airworthiness Directives; Alexander Schleicher GmbH & Co. Gliders

AGENCY: Federal Aviation Administration (FAA), Department of Transportation (DOT).

ACTION: Notice of proposed rulemaking (NPRM).

SUMMARY: We propose to adopt a new airworthiness directive (AD) for Alexander Schleicher GmbH & Co. Model ASK 21 gliders. This proposed AD results from mandatory continuing airworthiness information (MCAI) originated by an aviation authority of another country to identify and correct an unsafe condition on an aviation product. The MCAI describes the unsafe condition as cable slack in gliders equipped with a rudder hand control system leading to a short-term blockage of the rudder control system and reduced control. We are issuing this proposed AD to correct the unsafe condition on these products.

DATES: We must receive comments on this proposed AD by December 27, 2016.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact Alexander Schleicher GmbH & Co., Segelflugzeugbau, Germany, Alexander Schleicher Str. 1, D-36163 Poppenhausen (Wasserkuppe), telephone: +49 6658 89-0; fax: +49 6658 89-40; email: info@alexander-schleicher.de; Internet: http://www.alexander-schleicher.de/en/flugzeuge/ask-21/. You may review this referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2016-9382; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Jim Rutherford, Aerospace Engineer, FAA, Small Airplane Directorate, 901 Locust, Room 301, Kansas City, Missouri 64106; telephone: (816) 329-4165; fax: (816) 329-4090; email: jim.rutherford@faa.gov.

SUPPLEMENTARY INFORMATION:

Comments Invited

We invite you to send any written relevant data, views, or arguments about this proposed AD. Send your comments to an address listed under the ADDRESSES section. Include “Docket No. FAA-2016-9382; Directorate Identifier 2016-CE-032-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

The European Aviation Safety Agency (EASA), which is the Technical Agent for the Member States of the European Community, has issued EASA AD No.: 2016-0192, dated September 28, 2016 (referred to after this as “the MCAI”), to correct an unsafe condition for the specified products. The MCAI states:

A temporary rudder control blockage was reported, involving an ASK 21 sailplane equipped with a rudder hand control system. The subsequent investigation revealed significant cable slack in the rudder control system.

This condition, if not detected and corrected, could lead to reduced rudder control, possibly resulting in reduced controllability of the sailplane.

To address this potentially unsafe condition, Schleicher issued ASK 21 Technical Note (TN) 38 to provide instructions to amend the ASK 21 Aircraft Flight Manual (AFM), incorporating updated pre-flight inspection instructions to check the rudder control system of sailplanes modified in accordance with the instructions of Schleicher ASK 21 TN 25 (rudder actuated by hand lever for the front pilot seat) or TN 30 (rudder control by hand for the rear pilot seat).

For reasons described above, this AD requires amendment of the applicable Schleicher ASK 21 AFM, revising pre-flight checks of the rudder hand control system.

You may examine the MCAI on the Internet at http://www.regulations.gov by searching for and locating Docket No. FAA-2016-9357.

Related Service Information Under 1 CFR Part 51

Alexander Schleicher GmbH & Co. has issued ASK 21 Technical Note No. 38, dated May 31, 2016, The service information describes procedures for inspecting gliders equipped with a rudder hand control system for proper tension and adjustment if necessary. This service information is reasonably available because the interested parties have access to it through their normal course of business or by the means identified in the ADDRESSES section of this NPRM.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Costs of Compliance

We estimate that this proposed AD will affect 64 products of U.S. registry. We also estimate that it would take about 2 work-hours per product to comply with the basic requirements of this proposed AD. The average labor rate is $85 per work-hour.

Based on these figures, we estimate the cost of the proposed AD on U.S. operators to be $10,880, or $170 per product.

In addition, we estimate that any necessary follow-on actions would take about 1 work-hour for cost of $85 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Alexander Schleicher GmbH & Co.: Docket No. FAA-2016-9382; Directorate Identifier 2016-CE-032-AD.

(a) Comments Due Date

We must receive comments by December 27, 2016.

(b) Affected ADs

None.

(c) Applicability

This AD applies to Alexander Schleicher GmbH & Co. ASK 21 gliders, all serial numbers, certificated in any category, that are modified with a rudder hand control system using either ASK 21 Technical Note No. 25, dated February 16, 1993, or ASK 21 Technical Note No. 30, dated January 22, 2007.

(d) Subject

Air Transport Association of America (ATA) Code 27: Flight Controls.

(e) Reason

This AD was prompted by mandatory continuing airworthiness information (MCAI) originated by an aviation authority of another country to identify and correct an unsafe condition on an aviation product. The MCAI describes the unsafe condition as cable slack in gliders equipped with a rudder hand control system. We are issuing this proposed AD to correct any excess slack in the rudder hand control system, which could result in a short-term blockage of the rudder control system causing reduced control.

(f) Actions and Compliance

Unless already done, do the actions in paragraphs (f)(1) through (3) of this AD:

(1) If the glider is equipped with a rudder actuated by means of a hand lever at the left cockpit wall in the front pilot seat by ASK 21 Technical Note (TN) No. 25, dated February 16, 1993, within the next 60 days after the effective date of this AD, replace the flight manual (FM) and maintenance manual (MM) pages with the following pages in ASK 21 TN No. 38, dated May 31, 2016:

(i) FM: Check List/1, 16a, 19.1a., and 21.

(ii) MM: 13, 15.

(2) If the glider is equipped with a rudder actuated by means of a hand lever at the left cockpit wall in the rear pilot seat by ASK 21 TN No. 30, dated January 22, 2007, within the next 60 days after the effective date of this AD, replace the FM and MM pages with the following pages in ASK 21 TN No. 38, dated May 31, 2016:

(i) FM: Check List/1, 16a, 18a, 19b, 19c, 19.1a, and 21.

(ii) MM: 13, 15.

(3) For all affected gliders, within the next 60 days after the effective date of this AD and repetitively thereafter at intervals not to exceed every 12 months, inspect the rudder cable tension and make any necessary corrections following the instructions from FM page 19.1a, Checking and Adjusting of the Cable Tension, as specified in ASK 21 TN No. 38, dated May 31, 2016.

(4) For all affected gliders, after the effective date of this AD, any glider modified with a rudder hand control system in accordance with ASK 21 TN No. 25 or TN No. 30 must also amend the FM and MM following the instructions in ASK 21 TN No. 38, dated May 31, 2016.

(g) Pilot Authorization

In addition to the provisions of 14 CFR 43.3 and 43.7, the actions required by paragraph (f)(1) through (2) of this AD may be performed by the owner/operator (pilot) holding at least a private pilot certificate and must be entered into the glider records showing compliance with this AD following 14 CFR 43.9 (a)(1) through (4) and 14 CFR 91.417(a)(2)(v). The record must be maintained as required by 14 CFR 91.417, 121.380, or 135.439.

(h) Other FAA AD Provisions

The following provisions also apply to this AD:

(1) Alternative Methods of Compliance (AMOCs): The Manager, Standards Office, FAA, has the authority to approve AMOCs for this AD, if requested using the procedures found in 14 CFR 39.19. Send information to ATTN: Jim Rutherford, Aerospace Engineer, FAA, Small Airplane Directorate, 901 Locust, Room 301, Kansas City, Missouri 64106; telephone: (816) 329-4165; fax: (816) 329-4090; email: jim.rutherford@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(i) Related Information

Refer to MCAI European Aviation Safety Agency (EASA) AD No.: 2016-0192, dated September 28, 2016, for related information. You may examine the MCAI on the Internet at http://www.regulations.gov by searching for and locating Docket No. FAA-2016-9382. For service information related to this AD, contact Alexander Schleicher GmbH & Co., Segelflugzeugbau, Germany, Alexander Schleicher Str. 1, D-36163 Poppenhausen (Wasserkuppe), telephone: +49 6658 89-0; fax: +49 6658 89-40; email: info@alexander-schleicher.de; Internet: http://www.alexander-schleicher.de/en/flugzeuge/ask-21/. You may review this referenced service information at the FAA, Small Airplane Directorate, 901 Locust, Kansas City, Missouri 64106. For information on the availability of this material at the FAA, call (816) 329-4148.

Issued in Kansas City, Missouri, on November 2, 2016.
Pat Mullen,
Acting Manager, Small Airplane Directorate, Aircraft Certification Service.

[FR Doc. 2016-27041 Filed 11-9-16; 8:45 am]

BILLING CODE 4910-13-P